DEPARTMENT OF ENERGY

U.S. Energy Information Administration

Collection Revision

AGENCY: Energy Information Administration (EIA), Department of Energy, DOE.

ACTION: Notice and request for comments.

SUMMARY: The EIA invites public comment on the proposed change to add a new vehicle classification code to Form EIA-886, Annual Survey of Alternative Fueled Vehicles, which EIA is developing for submission to the Office of Management and Budget (OMB) pursuant to the Paperwork Reduction Act of 1995. Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

DATES: Comments regarding this proposed information collection must be received on or before August 27, 2012. If you anticipate difficulty in submitting comments within that period, contact the person listed in the ADDRESSES section below as soon as possible.

ADDRESSES: Written comments may be sent to Cynthia Amezcua, EI-22, U.S. Department of Energy, 1000 Independence Avenue SW., Washington, DC 20585, or by fax at (202) 586-9753 or by email at cynthia.amezcua@eia.gov.

FOR FURTHER INFORMATION CONTACT: Requests for additional information or copies of the information collection instrument and instructions should be directed to Cynthia Amezcua by phone at (202) 586-1658 or by email at the address listed above. Access to the proposed form, instructions, and internet data collection screens can be found at: https://eiaweb.inl.gov/2013-clearance.pdf.

SUPPLEMENTARY INFORMATION: This information collection request contains:

(1) OMB No.: 1905-0191;

(2) Information Collection Request Title: Annual Survey of Alternative Fueled Vehicles;

(3) Type of Request: Revision of a currently approved collection;

(4a) Purpose: Form EIA-886 is an annual survey that collects information on the number and type of alternative fueled vehicles (AFVs) and other advanced technology vehicles that vehicle suppliers made available in the previous calendar year and plan to make available in the following calendar year; the number, type and geographic distribution of AFVs in use in the previous calendar year; and the amount and distribution of each type of alternative transportation fuel (ATF) consumed in the previous calendar year. Form EIA-886 data are collected from suppliers and users of AFVs. EIA uses data from these groups as a basis for estimating total AFV and ATF use in the U.S. These data are needed by Federal and State agencies, fuel suppliers, transit agencies and other fleets to determine if sufficient quantities of AFVs are available for purchase and to provide Congress with a measure of the extent to which the objectives of the Energy Policy Act of 1992 are being achieved. These data serve as market analysis tools for Congress, Federal/State agencies, AFV suppliers, vehicle fleet managers, and other interested organizations and persons. These data are also needed to satisfy numerous public requests for detailed information on AFVs and ATFs (in particular, the number of AFVs distributed by State, as well as the amount and location of the ATFs being consumed).

EIA publishes summary information from the Form EIA-886 database in an annual report on EIA's Web site (www.eia.gov). This report covers historical and projected supplies of AFVs, AFV usage by selected user groups, and estimates of total U.S. AFV counts and U.S. consumption of ATFs. These data provide baseline inputs for DOE's transportation sector energy models. They also provide the energy consumption measures for alternative transportation fuels in EIA's State Energy Data System. For example, EIA's National Energy Modeling System (NEMS) has a component model that forecasts transportation sector energy consumption and provides a framework for AFV policy and technology analysis. The data obtained from Form EIA-886 are used to improve the explanatory power of the NEMS Transportation Demand Model by allowing for greater detail in representing AFV types and characteristics;

(4b) Proposed Changes to Information Collection: EIA is proposing the addition of a Fuel Type/Engine Configuration Code to collect data on plug-in hybrid electric vehicles (PHEV). PHEVs are considered alternative fueled vehicles under the Energy Policy Act of 1992 definition of an alternative fueled vehicle because their primary fuel source is electricity; however, they differ from straight battery-powered electric vehicles because they use an electric battery as the primary energy source for propulsion for a limited range (15-40 miles) before switching to internal combustion propulsion. Currently, EIA collects data on electric battery-powered vehicles with the code “EVC BP”. EIA would like to add the code “EVC PH” to differentiate between PHEVs and AFVs that are powered exclusively by battery. EIA would continue to use the code “EVC BP” to identify vehicles that are powered exclusively by an electric battery.

Sections 2 and 3 of the Form EIA-886 collect data on the inventory and supply of alternative fueled vehicles. In Section 2, respondents are required to report the vehicle type, fuel type, engine configuration, application, quantity, miles traveled, and alternative fuel consumption for all AFVs in use. In Section 3, respondents are required to report the vehicle type, model, fuel type, engine configuration, and quantities made available and planned to be made available for all AFVs and advanced technology vehicles supplied. Both sections of the online reporting system utilize drop-down menus to capture these data. The proposed code “EVC PH” would be added under the Electric Fuel Type Category. EIA does not expect this proposed addition of a vehicle classification code to Form EIA-886 to cause any increase in reporting burden.

(4c). Change in Burden Hours: Due to the decrease in the number of original equipment manufacturers and aftermarket vehicle converters in the marketplace, EIA estimates the survey frame of suppliers for the Form EIA-886 to decrease from 75 to 50 respondents, thus creating a decrease in overall respondent burden hours from 10,812 hours to 10,740 hours;

(5) Annual Estimated Number of Total Responses: 2,050;

(6) Annual Estimated Number of Burden Hours: 10,740;

AFV Suppliers (30 Original Equipment Manufacturers): 3 hours;

AFV Suppliers (20 Aftermarket Vehicle Converters): 2.5 hours;

AFV Users (100 complex fleets): 30 hours;

AFV Users (1,900 simple fleets): 4 hours;

(7) Annual Estimated Reporting and Recordkeeping Cost Burden: No additional costs beyond burden hours are anticipated from the proposed collection instrument revision.

Statutory Authority: The legal authority for this data collection effort is provided by the following provisions:

Section 13(b) of the Federal Energy Administration Act of 1974, Pub. L. 93-275, (FEA Act), and codified at 15 U.S.C. § 772 (b), and

Section 503(b)(2) of the Energy Policy Act of 1992, Pub. L. 102-486 (EPACT92) codified at 42 U.S.C. 13253.

Issued in Washington, DC on June 21, 2012.
Renee Miller,
Acting Director, Office of Survey Development and Statistical Integration, U.S. Energy Information Administration.

[FR Doc. 2012-15773 Filed 6-26-12; 8:45 am]

BILLING CODE 6450-01-P